DEPARTMENT OF ENERGY

[GDO Docket No. EA-318-D]

Application for Renewal of Authorization To Export Electric Energy; AEP Energy Partners, Inc.

AGENCY: Grid Deployment Office, Department of Energy.

ACTION: Notice of application.

SUMMARY: AEP Energy Partners, Inc. (the Applicant or AEP-EP) has applied for authorization to transmit electric energy from the United States to Mexico pursuant to the Federal Power Act.

DATES: Comments, protests, or motions to intervene must be submitted on or before March 20, 2023.

ADDRESSES: Comments, protests, motions to intervene, or requests for more information should be addressed by electronic mail to Electricity.Exports@hq.doe.gov.

FOR FURTHER INFORMATION CONTACT: Steven Blazek, (240) 474-2780, electricity.exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export. (16 U.S.C. 824a(e)). On June 13, 2022, the authority to issue such orders was delegated to the DOE's Grid Deployment Office (GDO) under Delegation Order No. S1-DEL-S3-2022-2 and Redelegation Order No. S3-DEL-GD1-2022.

On February 22, 2007, DOE issued Order No. EA-318, which authorized CSW Power Marketing to transmit electric energy from the United States to Mexico for a five-year term using existing international transmission facilities. Shortly thereafter, CSW Power Marketing changed its name to AEP Energy Partners, Inc. (AEP-EP). Consequently, on June 27, 2007, DOE rescinded Order No. EA-318 and issued Order No. EA-318-A to AEP-EP under the same terms and conditions as the original authorization.

On December 19, 2011, AEP-EP filed an application seeking to renew its export authority for a 10-year term. On January 20, 2012, DOE published notice of AEP-EP's renewal application in the Federal Register (77 FR 1474, January 20, 2012). Sierra Club filed a timely motion to intervene and protest on February 9, 2012. On February 16, 2012, AEP-EP filed an emergency request for continuance or temporary extension of its existing export authorization, together with a request for expedited consideration. On February 17, 2012, Sierra Club filed an opposition to AEP-EP's emergency request. On February 22, 2012, DOE issued letter order No. EA-318-B to AEP-EP, allowing it to continue exporting electricity from the United States to Mexico for emergency purposes only. On January 28, 2013, DOE issued EA-318-C, granting AEP-EP authorization to export electric energy to Mexico.

On October 19, 2022, AEP-EP filed an application with DOE (Application or App) for renewal of their export authority for an additional five-year term or any longer period allowable. App at 2. Per the Q3 2022 Form EIA-111 filed by AEP-EP at the United States Energy Information Administration, AEP-EP is currently exporting electricity. On January 11, 2023, AEP-EP filed an emergency request for continuance or temporary extension of existing export authorization or for a temporary export authorization and request for expedited consideration. On January 25, 2023, DOE granted a temporary extension of AEP-EP's existing export authorization Order No. EA-318-C until such time as DOE reviews the renewal Application.

In its Application, AEP-EP states that it “does not own control or operate any electric generation, distribution or transmission assets” nor does it “have a franchised electric power service area or service territory for the transmission, distribution or sale of electric power in the United States or Mexico.” App at 2. AEP-EP seeks to renew its authority to “export electric energy from the United States of America (`United States') to Mexico over any authorized international electric transmission facilities that are appropriate for `open access' transmission by third parties.” App at 1. AEP-EP represents that it will “purchase the electric energy to be exported to Mexico in the wholesale energy market pursuant to voluntary agreements with electric utilities and federal power marketing agencies” and that, by definition, “such power is surplus to the system of the electric utilities and federal power marketing agencies, and, thus, will not impair or have an adverse effect on the sufficiency or operation of the electric power system” of the United States. App at 5.

The existing international transmission facilities to be utilized by the Applicant have been previously authorized by Presidential permits issued pursuant to Executive Order 10485, as amended, and are appropriate for open access transmission by third parties. See App at Exhibit C.

Procedural Matters: Any person desiring to be heard in this proceeding should file a comment or protest to the Application at the address provided above. Protests should be filed in accordance with Rule 211 of FERC's Rules of Practice and Procedure (18 CFR 385.211). Any person desiring to become a party to this proceeding should file a motion to intervene at the above address in accordance with FERC Rule 214 (18 CFR 385.214).

Comments and other filings concerning AEP-EP's Application should be clearly marked with GDO Docket No. EA-318-D. Additional copies are to be provided directly to Thomas M. Myers, Vice President—AEP Energy Partners, Inc., 1 Riverside Plaza, 31st Floor, Columbus, OH 43215, (614) 716-3170, tmyers@aep.com and Carol Gosain, Steptoe & Johnson LLP, 1330 Connecticut Avenue NW, Washington, DC 20036, (202) 429-6461, cgosain@steptoe.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications or by emailing Electricity.Exports@hq.doe.gov.

Signing Authority

This document of the Department of Energy was signed on February 13, 2023, by Maria Robinson, Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 14, 2023.
Treena V. Garrett,
Federal Register Liaison Officer, U.S. Department of Energy.

[FR Doc. 2023-03432 Filed 2-16-23; 8:45 am]

BILLING CODE 6450-01-P